DEPARTMENT OF VETERANS AFFAIRS

[OMB Control No. 2900-0222]

Agency Information Collection Activity Under Review: Proposed Information Collection, Claim for Standard Government Headstone or Marker and Claim for Government Medallion for Placement in a Private Cemetery

AGENCY: National Cemetery Administration (NCA), Department of Veterans Affairs.

ACTION: Notice.

SUMMARY: In compliance with Paperwork Reduction Act (PRA) of 1995, this notice announces that the National Cemetery Administration (NCA), Department of Veterans Affairs will submit the collection of information abstracted below to the Office of Management and Budget (OMB) for review and comment. The PRA submission describes the nature of the information collection and its expected cost and burden and it includes the actual data collection instrument.

DATES: Comments must be submitted on or before July 17, 2017.

ADDRESSES: Submit written comments on the collection of information through www.Regulations.gov; or to Office of Information and Regulatory Affairs, Office of Management and Budget, Attn: VA Desk Officer; 725 17th St. NW., Washington, DC 20503 or sent through electronic mail to oira_submission@omb.eop.gov. Please refer to “OMB Control No. 2900-0222” in any correspondence.

FOR FURTHER INFORMATION CONTACT: Cynthia Harvey-Pryor, Enterprise Records Service (005R1B), (202) 461-5870 or email Cynthia.harvey-pryor@va.gov. Please refer to “OMB Control No. 2900-0222” in any correspondence.

SUPPLEMENTARY INFORMATION:

Authority: Public Law 104-13; U.S.C. 3501-21.

Title: VA Form 40-1330, Claim for Standard Government Headstone or Marker, and VA Form 40-1330M, Claim for Government Medallion for Placement in a Private Cemetery.

OMB Control Number: 2900-0222.

Type of Review: Reinstatement of a previously approved collection.

Abstract: The National Cemetery Administration (NCA) updated its current VA Form 40-1330 and VA Form 40-1330M. The original VA Form 40-1330 and 40-1330M is a request for a Government-furnished headstone or marker, or medallion, respectively. The updates to the form include the following:

• Change to the Applicant Definition, who can apply for a Government headstone, marker or medallion;

• Information about the Presidential Memorial Certificate (PMC) program and the option to receive a PMC in addition to the headstone, marker or medallion;

• Changes in eligibility for a medallion, consistent with section 301 of Public Law 114-315;

• Addition of language that clarifies that “mandatory” and “optional” inscription items are provided in English, and that “additional” inscription items may be provided in English or non-English text that consists of the Latin Alphabet or numbers;

• Addition of information on VA Form 40-1330 and VA Form 40-1330M related to whether the Veteran was previously determined by VA to be eligible for burial, and related to whether the request is initial or for a replacement headstone or marker;

• Addition of “Iraq” and “Afghanistan” as indicators of “War Service,” consistent with Public Law 114-315;

• Addition of Age at the Time of Death on VA Form 40-1330 and VA Form 40-1330M; and

• Addition of demographic information for statistical reporting purposes only on VA Form 40-1330 and VA Form 40-1330M.

An agency may not conduct or sponsor, and a person is not required to respond t a collection of information unless it displays a currently valid OMB control number. The Federal Register Notice with a 60-day comment period soliciting comments on this collection of information was published at 82 FRN 17740 on April 12, 2017.

Affected Public: Individuals or Households.

Estimated Annual Burden: 88,643 Burden Hours.

Estimated Average Burden per Respondent: 15 Minutes.

Frequency of Response: One-time.

Estimated Number of Respondents: 166,135.

By direction of the Secretary.
Cynthia Harvey-Pryor,
Department Clearance Officer, Enterprise Records Service, Office of Quality and Compliance, Department of Veterans Affairs.

[FR Doc. 2017-12379 Filed 6-14-17; 8:45 am]

BILLING CODE 8320-01-P